SMALL BUSINESS ADMINISTRATION

[Disaster Declaration #12921 and #12922]

Virginia Disaster Number VA-00040

AGENCY: U.S. Small Business Administration.

ACTION: Amendment 1.

SUMMARY: This is an amendment of the Presidential declaration of a major disaster for Public Assistance Only for the State of Virginia (FEMA-4042-DR), dated 11/10/2011.

Incident: Earthquake.

Incident Period: 08/23/2011 through 10/25/2011.

Effective Date: 11/18/2011.

Physical Loan Application Deadline Date: 01/09/2012.

Economic Injury (EIDL) Loan Application Deadline Date: 08/10/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for private non-profit organizations in the State of Virginia, dated 11/10/2011, is hereby amended to include the following areas as adversely affected by the disaster.

Primary Counties: Spotsylvania.

All other information in the original declaration remains unchanged.

(Catalog of Federal Domestic Assistance Numbers 59002 and 59008)

Joseph P. Loddo,
Acting Associate Administrator for Disaster Assistance.

[FR Doc. 2011-30935 Filed 11-30-11; 8:45 am]

BILLING CODE 8025-01-P